DEPARTMENT OF THE INTERIOR

Bureau of Land Management

[CO-100-09-0777-XX]

Notice of Public Meetings, Northwest Colorado Resource Advisory Council Meetings

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Northwest Colorado Resource Advisory Council (RAC) will meet as indicated below.

DATES: The Northwest Colorado RAC has scheduled meetings for May 28, 2009; August 20, 2009; and December 3, 2009.

ADDRESSES: The Northwest Colorado RAC meetings will be held May 28, 2009, in Browns Park, CO, at Lodore Hall, 50 miles west of Maybell on Colorado Highway 318; August 20, 2009, in Meeker, CO, at the Meeker Community Center, 101 Ute Rd.; and December 3, 2009, in Silt at the BLM Field Office, River Frontage Rd.

All Northwest Colorado RAC meetings will begin at 8 a.m. and adjourn at approximately 3 p.m., with public comment periods regarding matters on the agenda at 10 a.m. and 2 p.m.

FOR FURTHER INFORMATION CONTACT: David Boyd, Public Affairs Specialist, 50629 Hwy. 6&24, Glenwood Springs, CO, telephone 970-947-2832.

SUPPLEMENTARY INFORMATION: The Northwest Colorado RAC advises the Secretary of the Interior, through the Bureau of Land Management, on a variety of public land issues in Colorado.

Topics of discussion during Northwest Colorado RAC meetings may include the BLM National Sage Grouse Conservation Strategy, working group reports, recreation, fire management, land use planning, invasive species management, energy and minerals management, travel management, wilderness, wild horse herd management, land exchange proposals, cultural resource management, and other issues as appropriate.

These meetings are open to the public. The public may present written comments to the RACs. Each formal RAC meeting will also have time, as identified above, allocated for hearing public comments. Depending on the number of persons wishing to comment and time available, the time for individual oral comments may be limited.

Jamie Connell,
Northwest Colorado District Manager, Lead Designated Federal Officer for the Northwest Colorado RAC.

[FR Doc. E9-7938 Filed 4-27-09; 8:45 am]

BILLING CODE P